SOCIAL SECURITY ADMINISTRATION

Senior Executive Service Performance Review Board Membership

AGENCY: Social Security Administration.

ACTION: Notice of Senior Executive Service Performance Review Board Membership.

Title 5, U.S. Code, section 4314(c)(4) of the Civil Service Reform Act of 1978, Public Law 95-454, requires that the appointment of Performance Review Board members be published in the Federal Register.

The following persons will serve on the Performance Review Board which oversees the evaluation of performance appraisals of Senior Executive Service members of the Social Security Administration.

Nicholas M. Blatchford,

Michael G. Gallagher *,

Rogelio Gomez *,

Myrtle S. Habersham *,

Terris A. King,

Nancy A. McCullough,

Carolyn L. Simmons,

Felicita Sola-Carter,

Thomas J. Tobin *,

Paul N. Van de Water,

Manuel Vaz,

Alice H. Wade,

Charles M. Wood.

* New Member.

Dated: September 3, 2004.
Reginald F. Wells,
Deputy Commissioner for Human Resources.

[FR Doc. 04-20708 Filed 9-14-04; 8:45 am]

BILLING CODE 4191-02-P